DEPARTMENT OF THE INTERIOR

Bureau of Land Management

[LLOR936000.L14400000.ET0000.16XL1109AF; OR68370]

Public Land Order No. 7859; Withdrawal of National Forest System and Bureau of Land Management Public Lands in Southwestern Oregon; Oregon

AGENCY: Bureau of Land Management, Interior.

ACTION: Public Land Order.

SUMMARY: This order withdraws, subject to valid existing rights, approximately 5,216.18 acres of public domain and Revested Oregon and California Railroad lands and 95,805.53 acres of National Forest System lands from settlement, sale, location, and entry under the public land laws; location and entry under the United States mining laws; and operation of the mineral and geothermal leasing laws for a period of 20 years while Congress considers legislation to permanently withdraw those areas and to protect the Southwestern Oregon watershed from possible adverse effects of mineral development.

DATES: This Public Land Order is effective on December 30, 2016.

FOR FURTHER INFORMATION CONTACT: Jacob Childers, Land Law Examiner, at 503-808-6225, Bureau of Land Management, Oregon/Washington State Office, P.O. Box 2965, Portland, Oregon 97208-2965. Persons who use a telecommunications device for the deaf (TDD) may call the Federal Relay Service (FIRS) at 1-800-877-8339 to reach the above individual. The FRS is available 24 hours a day, 7 days a week, to leave a message or question with the above individual. You will receive a reply during normal business hours.

SUPPLEMENTARY INFORMATION: The purpose of this order is to protect the lands while Congress considers legislation to permanently withdraw those areas and to protect the Southwestern Oregon watershed from possible adverse effects of mineral development.

Order

By virtue of the authority vested in the Secretary of the Interior by Section 204 of the Federal Land Policy and Management Act of 1976, 43 U.S.C. 1714, it is ordered as follows:

1. Subject to valid existing rights, the following described public domain, Revested Oregon and California Railroad lands, and National Forest System lands, are hereby withdrawn from settlement, sale, location, and entry under the public land laws, location and entry under the United States mining laws, and operation of the mineral and geothermal leasing laws while Congress considers legislation to permanently withdraw those areas and to protect the Southwestern Oregon watershed from possible adverse effects of mineral development.

Willamette Meridian

Public Lands

T. 36 S., R. 14 W.,

Sec. 24, E½SE¼;

Sec. 25, SE¼SE¼.

T. 37 S., R. 14 W.,

Sec. 1, lots 1 thru 4, inclusive, S½N½, N½SW¼, SE¼SW¼, and SE¼;

Sec. 2, lots 1 and 2, S½NE¼, and E½SE¼;

Sec. 11, E½;

Sec. 12, E½, E½NW¼, NE¼SW¼, and S½SW¼;

Sec. 13, N½N½ and SE¼;

Sec. 14, NE¼NE¼ and SE¼NW¼;

Sec. 23, SE¼NE¼;

Sec. 24, NE¼NE¼, S½NE¼, NW¼NW¼, S½NW¼, and S½.

T. 40 S., R. 8 W.,

Sec. 18, SW¼NE¼NE¼, W½NE¼, SE¼NE¼, W½, and W½SE¼;

Sec. 19, NW¼NE¼;

Sec. 20, NW¼NW¼.

T. 41 S., R. 9 W.,

Sec. 3, lots 2, 3, and 4, and S½NW¼;

Sec. 9.

The areas described aggregate 4,235.61 acres in Josephine and Curry Counties.

Revested Oregon and California Railroad Lands

T. 39 S., R. 8 W.,

Sec. 31, un-numbered lots in the W½NW¼ and W½SW¼, E½NW¼, and NE¼SW¼.

T. 40 S., R. 8 W.,

Sec. 7, lots 1 and 2, E½SW¼, SW¼SW¼, and SW¼SE¼;

Sec. 17, W½NE¼, SE¼NE¼, W½, and NW¼SE¼.

The areas described aggregate 980.57 acres in Josephine and Curry Counties.

National Forest System Lands

Siskiyou National Forest

T. 36 S., R. 13 W.,

Sec. 19, lots 2 thru 6, lots 12, 13, 15, and 16;

Sec. 20, SW¼NE¼, NW¼, and SW¼SE¼;

Sec. 21, E½ and SE¼SW¼;

Sec. 29, NW¼;

Secs. 30 and 31;

Protraction Blocks 43 thru 46.

T. 37 S., R. 13 W.,

Secs. 8, 9, 10, 16, 17, 20, 21, 28, and 29;

Protraction Blocks 39 thru 51.

T. 38 S., R. 13 W.,

Sec. 5, SW¼;

Sec. 6, lots 1 thru 7, S½NE¼, SE¼NW¼, E½SW¼, and SE¼;

Sec. 7, lots 1, 2, 3, and 5, NE¼, E½NW¼, NE¼SW¼, NE¼SW¼SW¼, NE¼SE¼SW¼, and SE¼SE¼SW¼;

Sec. 8, N½.

T. 39 S., R. 9 W.,

Sec. 19;

Sec. 20, SW¼NE¼, NW¼, SW¼, and W½SE¼;

Secs. 29 thru 32;

Sec. 35, NE¼NE¼, S½NE¼, SW¼, and SE¼.

T. 39 S., R. 10 W.,

Protraction Block 46.

T. 40 S., R. 9 W.,

Sec. 1, un-numbered lots in the N½NE¼ and N½NW¼, SW¼NE¼, S½NW¼, SW¼, and W½SE¼;

Sec. 2, lots 1 thru 7, SW¼NE¼, S½NW¼, SW¼, and W½SE¼;

Sec. 3, lots 1 and 2, S½NE¼, S½NW¼, and S½;

Sec. 4, S½NE¼, S½NW¼, and S½;

Sec. 5, lots 2, 3, and 4, S½NE¼, S½NW¼, and S½;

Secs. 6 thru 11;

Sec. 13, NE¼, S½NE¼NW¼, S½NW¼, and S½;

Sec. 14, NE¼, N½NW¼, N½SW¼NW¼, SE¼SW¼NW¼, SE¼NW¼, N½NE¼SW¼, SW¼NW¼SW¼, SW¼SW¼, N½SE¼, and SE¼SE¼;

Secs. 15 thru 22;

Sec. 23, W½NE¼NW¼, W½NW¼, NW¼SE¼NW¼, and W½SW¼;

Secs. 27 thru 33;

Sec. 34, lots 1 thru 8, N½NE¼, SW¼NE¼, and NW¼SE¼.

T. 40 S., R. 10 W.,

Sec. 2, lot 1, SW¼NE¼, SE¼SW¼, E½SE¼, and SW¼SE¼;

Sec. 3, SW¼SW¼;

Sec. 4, SE¼SE¼;

Sec 8, SE¼;

Sec. 9, NE¼, S½NW¼, and S½;

Sec. 10;

Sec. 11, NE¼, E½NW¼, S½NW¼NW¼, S½NW¼, SW¼, and SE¼;

Secs. 14, 15, and 16;

Sec. 17, E½NE¼, SW¼NE¼, E½SW¼, SW¼SW¼, and SE¼;

Sec. 19, S½NE¼NE¼, S½NE¼, E½SW¼, and SE¼;

Secs. 20 thru 23, and 26 thru 30;

Protraction Blocks 37 thru 47.

T. 40 S., R. 11 W.,

Sec. 4, lots 3 and 4, and SW¼NW¼;

Secs. 5 and 8;

Sec. 9, SW¼NW¼, W½SW¼, SE¼SW¼ and SW¼SE¼;

Sec. 16;

Sec. 17, E½NE¼, NE¼SE¼, SE¼SW¼, and S½SE¼;

Sec. 20, E½, E½NW¼, and SW¼;

Sec. 21;

Sec. 27, W½;

Sec. 28;

Sec. 29, NE¼, NE¼NW¼, N½SE¼, and SE¼SE¼;

Protraction Blocks 39, 40, 41, and 43.

T. 41 S., R. 9 W.,

Secs, 4 thru 8;

Secs 17 and 18.

T. 41 S, R. 10 W.,

Secs. 1 thru 18.

T. 41 S., R. 11 W.,

Sec. 1;

Sec. 2, E½NE¼, SW¼NE¼, W½SW¼NW¼, W½NW¼SW¼, and SE¼;

Secs. 3 and 4;

Sec. 5, NE¼, E½SW¼, E½SW¼SW¼, and SE¼;

Sec. 8, E½, E½NW¼, E½NW¼NW¼, E½SW¼NW¼, E½NE¼SW¼, and E½SE¼SW¼;

Secs. 9 thru 15;

Sec. 17, lots 1 thru 4, NE¼, and N½S½;

Sec. 18, lots, 9, 10, 11, NE¼SW¼, and N½SE¼.

The areas described aggregate 95,805.53 acres in Josephine and Curry Counties.

2. The following described non-Federal lands are within the exterior boundaries of the Southwestern Oregon watershed. If title to these non-Federal lands is subsequently acquired by the United States, the lands will be subject to the terms and conditions of the withdrawal.

Willamette Meridian

T. 37 S., R. 14 W.,

Sec. 1, SW¼SW¼;

Sec. 12, W½NW¼ and NW¼SW¼;

Sec. 13, S½N½;

Sec. 24, NW¼NE¼ and NE¼NW¼.

T. 39 S., R. 9 W.,

Sec. 36.

T. 41 S., R. 11 W.,

Sec. 16.

The areas described aggregate 1,680 acres in Josephine and Curry Counties.

3. This withdrawal will expire 20 years from the effective date of this order, unless as a result of a review conducted prior to the expiration date pursuant to Section 204(f) of the Federal Land Policy and Management Act of 1976, 43 U.S.C. 1714(f), the Secretary determines that the withdrawal shall be extended.

Dated: December 30, 2016.
Janice M. Schneider,
Assistant Secretary—Land and Minerals Management.

[FR Doc. 2017-00770 Filed 1-12-17; 8:45 am]

BILLING CODE 3411-15-P